DEPARTMENT OF LABOR

Mine Safety and Health Administration

Petitions for Modification of Application of Existing Mandatory Safety Standards; Correction

AGENCY: Mine Safety and Health Administration, Labor.

ACTION: Notice; correction.

SUMMARY: The Mine Safety and Health Administration published a notice in the Federal Register of June 25, 2021, that concerned summaries of three petitions for modification. The notice contained incorrect docket numbers used to identify the respective petitions.

FOR FURTHER INFORMATION CONTACT: Jessica D. Senk, Director, Office of Standards, Regulations, and Variances, MSHA, at senk.jessica@dol.gov (email), 202-693-9440 (voice), or 202-693-9441 (fax). These are not toll-free numbers.

SUPPLEMENTARY INFORMATION:

Correction

In FR Doc. 2021-13544, appearing on page 33773 in the Federal Register of June 25, 2021, the following corrections are made under II. Petitions for Modification:

1. On page 33773, in the second column, the “Docket Number: M-2021-016-C.” is corrected to read “Docket Number: M-2021-019-C.”

2. On page 33775, in the second column, the “Docket Number: M-2021-017-C.” is corrected to read “Docket Number: M-2021-020-C.”

3. On page 33777, in the second column, the “Docket Number: M-2021-018-C.” is corrected to read “Docket Number: M-2021-021-C.”

Dated: June 28, 2021.
Jessica Senk,
Director, Office of Standards, Regulations, and Variances.

[FR Doc. 2021-14284 Filed 7-2-21; 8:45 am]

BILLING CODE 4520-43-P